Title 3—

The President

Executive Order 13230 of October 12, 2001

President's Advisory Commission on Educational Excellence for Hispanic Americans

By the authority vested in me as President by the Constitution and the laws of the United States of America, and in order to advance the development of human potential, strengthen the Nation's capacity to provide high-quality education, and increase opportunities for Hispanic Americans to participate in and benefit from Federal education programs, it is hereby ordered as follows:

Section 1. There is established, in the Department of Education, the President's Advisory Commission on Educational Excellence for Hispanic Americans (Commission). The Commission shall consist of not more than 25 members. Twenty-one of the members shall be appointed by the President. Those members shall be representatives of educational, business, professional, and community organizations who are committed to improving educational attainment within the Hispanic community, as well as other persons deemed appropriate by the President. The President shall designate two of the appointed members to serve as Co-Chairs of the Commission. The other four members of the Commission shall be ex officio members, one each from the Department of Education, the Department of Housing and Urban Development, the Department of the Treasury, and the Small Business Administration. The ex officio members shall be the respective Secretaries of those agencies and the Administrator of the Small Business Administration, or their designees.

Sec. 2. The Commission shall provide advice to the Secretary of Education (“Secretary”) and shall issue reports to the President, as described in section 7 below, concerning:

(a) the progress of Hispanic Americans in closing the academic achievement gap and attaining the goals established by the President's “No Child Left Behind” educational blueprint;

(b) the development, monitoring, and coordination of Federal efforts to promote high-quality education for Hispanic Americans;

(c) ways to increase parental, State and local, private sector, and community involvement in improving education; and

(d) ways to maximize the effectiveness of Federal education initiatives within the Hispanic community.

Sec. 3. There is established, in the Department of Education, an office called the White House Initiative on Educational Excellence for Hispanic Americans (Initiative). The Initiative shall be located at, staffed, and supported by the Department of Education, and headed by a Director, who shall be a senior level executive branch official who reports to the Secretary. The Initiative shall provide the necessary staff, resources, and assistance to the Commission and shall assist and advise the Secretary in carrying out his responsibilities under this order. The staff of the Initiative shall gather and disseminate information relating to the educational achievement gap of Hispanic Americans, using a variety of means, including conducting surveys, conferences, field hearings, and meetings, and other appropriate vehicles designed to encourage the participation of organizations and individuals interested in such issues, including parents, community leaders, academicians, business leaders, teachers, employers, employees and public officials at the local, State, and Federal levels. To the extent permitted by law, executive branch departments and agencies shall cooperate in providing resources, including personnel detailed to the Initiative, to meet the objectives of this order. The Initiative shall include both career civil service and appointed staff with expertise in the area of education.

Sec. 4. Executive branch departments and agencies, to the extent permitted by law and practicable, shall provide any appropriate information requested by the Commission or the staff of the Initiative, including data relating to the eligibility for and participation by Hispanic Americans in Federal education programs and the progress of Hispanic Americans in closing the academic achievement gap and in achieving the goals of the President's “No Child Left Behind” education blueprint. Where adequate data are not available, the Commission shall suggest the means for collecting the data. In accordance with the accountability goals established by the President, executive branch departments and agencies involved in relevant programs shall report to the President through the Initiative by September 30, 2002, on:

(a) efforts to increase participation of Hispanic Americans in Federal education programs and services;

(b) efforts to include Hispanic-serving school districts, Hispanic-serving institutions, and other educational institutions for Hispanic Americans in Federal education programs and services;

(c) levels of participation attained by Hispanic Americans in Federal education programs and services; and

(d) the measurable impact resulting from these efforts and levels of participation. The Department of Education's report also shall describe the overall condition of Hispanic American education and such other aspects of the educational status of Hispanic Americans, as the Secretary considers appropriate.

Sec. 5. Insofar as the Federal Advisory Committee Act, as amended (5 U.S.C. App), may apply to the Commission, any functions of the President under that Act, except that of reporting to the Congress, shall be performed by the Department of Education in accordance with the guidelines that have been issued by the Administrator of General Services.

Sec. 6. (a) Members of the Commission shall serve without compensation, but shall be allowed travel expenses, including per diem in lieu of subsistence, as authorized by law for persons serving intermittently in the Government service (5 U.S.C. 5701-5707).

(b) To the extent permitted by law, the Department of Education shall provide funding and administrative support for the Commission and the Initiative.

Sec. 7. The Commission shall prepare and submit an interim and final report to the President outlining its findings and recommendations as follows:

(a) The Commission shall submit an Interim Report no later than September 30, 2002. The Interim Report shall describe the Commission's examination of:

(i)

available research and information on the effectiveness of current practices at the local, State, and Federal levels in closing the educational achievement gap for Hispanic Americans and attaining the goals established by the President's “No Child Left Behind” educational blueprint;

(ii)

available research and information on the effectiveness of current practices involving Hispanic parents in the education of their children; and

(iii)

the appropriate role of Federal agencies' education programs in helping Hispanic parents successfully prepare their children to graduate from high school and attend post secondary institutions.

(b) The Commission shall issue a Final Report no later than March 31, 2003. The Final Report shall set forth the Commission's recommendations regarding:

(i)

a multi-year plan, based on the data collected concerning identification of barriers to and successful models for closing the educational achievement gap for Hispanic Americans, that provides for a coordinated effort among parents, community leaders, business leaders, educators, and public officials at the local, State, and Federal levels to close the educational achievement gap for Hispanic Americans and ensure attainment of the goals established by the President's “No Child Left Behind” educational blueprint.

(ii)

the development of a monitoring system that measures and holds executive branch departments and agencies accountable for the coordination of Federal efforts among the designated executive departments and agencies to ensure the participation of Hispanic Americans in Federal education programs and promote high-quality education for Hispanic Americans;

(iii)

the identification of successful methods employed throughout the Nation in increasing parental, State and local, private sector, and community involvement in improving education for Hispanic Americans;

(iv)

ways to improve on and measure the effectiveness of Federal agencies' education programs in ensuring that Hispanic Americans close the educational achievement gap and attain the goals established by the President's “No Child Left Behind” educational blueprint; and

(v)

how Federal Government education programs can best be applied to ensure Hispanic parents successfully prepare their children to attend post secondary institutions.

Sec. 8. The Commission shall terminate 30 days after submitting its final report, unless extended by the President.

Sec. 9. Executive Order 12900 of February 22, 1994, as amended, is revoked.

B

THE WHITE HOUSE,

October 12, 2001.

[FR Doc. 01-26339

Filed 10-16-01; 8:45 am]

Billing code 3195-01-P